DEPARTMENT OF DEFENSE

Office of the Secretary

[Transmittal No. 23-33]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-33, Policy Justification, and Sensitivity of Technology.

Dated: October 15, 2024.
Aaron T. Siegel,
Alternate OSD Federal Register Liaison Officer, Department of Defense.

Transmittal No. 23-33

Notice of Proposed Issuance of Letter of Offer Pursuant to Section 36(b)(1) of the Arms Export Control Act, as amended

(i) Prospective Purchaser: Government of Sweden

(ii) Total Estimated Value:

Major Defense Equipment * | $530 million
Other | $75 million
Total | $605 million

(iii) Description and Quantity or Quantities of Articles or Services under Consideration for Purchase:

Major Defense Equipment (MDE):

Up to two hundred fifty (250) AIM-120C-8 Advanced Medium Range Air-to-Air-Missiles (AMRAAM)

Up to six (6) AMRAAM C-8 Guidance Sections

Non-MDE:

Also included are spare AIM-120 control sections and containers; AMRAAM Test Set (ATS) telemetry kits; encryption devices; munitions support and support equipment; classified software delivery and support; spare parts, consumables, and accessories; repair and return support; transportation support; classified publications and technical documentation; studies and surveys; U.S. Government and contractor technical, engineering, and logistics support services; and other related elements of logistical and program support.

(iv) Military Department: Air Force (SW-D-YAA)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: July 7, 2023

* As defined in Section 47(6) of the Arms Export Control Act.

POLICY JUSTIFICATION

Government of Sweden—AIM-120C-8 Advanced Medium-Range Air-to-Air Missile (AMRAAM)

The Government of Sweden has requested to buy up to two hundred fifty (250) AIM-120C-8 Advanced Medium Range Air-to-Air Missiles (AMRAAM); and up to six (6) AMRAAM C-8 Guidance Sections. Also included are spare AIM-120 control sections and containers; AMRAAM Test Set (ATS) telemetry kits; encryption devices; munitions support and support equipment; classified software delivery and support; spare parts, consumables, and accessories; repair and return support; transportation support; classified publications and technical documentation; studies and surveys; U.S. Government and contractor technical, engineering and logistics support services; and other related elements of logistical and program support. The estimated total cost is $605 million.

This proposed sale will support the foreign policy goals and national security objectives of the United States by improving the security of a partner country that is a force for political stability and economic progress in Europe.

The proposed sale will improve Sweden's capability to meet and deter current and future threats in the region by ensuring Sweden has modern, capable air-to-air munitions. This sale will further advance the already high level of Swedish Air Force interoperability with U.S. joint forces and other regional and NATO forces. Sweden will have no difficulty absorbing these articles and services into its armed forces.

The proposed sale of this equipment and support will not alter the basic military balance in the region.

The principal contractor will be Raytheon Missiles and Defense, Tucson, AZ. There are no known offset agreements proposed in connection with this potential sale.

Implementation of this proposed sale will not require the assignment of any additional U.S. Government or contractor representatives to Sweden.

There will be no adverse impact on U.S. defense readiness as a result of this proposed sale.

Transmittal No. 23-33

Notice of Proposed Issuance of Letter of Offer Pursuant to Section 36(b)(1) of the Arms Export Control Act

Annex

Item No. vii

(vii) Sensitivity of Technology:

1. The AIM-120C-8 Advanced Medium Range Air-to-Air Missile (AMRAAM) is a supersonic, air launched, aerial intercept guided missile featuring digital technology and micro-miniature solid-state electronics. AMRAAM capabilities include look-down/shoot-down, multiple launches against multiple targets, resistance to electronic countermeasures, and interception of high-and low-flying and maneuvering targets. This potential sale will include AMRAAM guidance section and control section spares as well as telemetry test kits.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that Sweden can provide substantially the same degree of protection for the sensitive technology being released as the U.S. Government. This sale is necessary in furtherance of the U.S. foreign policy and national security objectives outlined in the Policy Justification.

5. All defense articles and services listed in this transmittal have been authorized for release and export to the Government of Sweden.

[FR Doc. 2024-24121 Filed 10-17-24; 8:45 am]

BILLING CODE 6001-FR-P